DEPARTMENT OF COMMERCE

National Oceanic and Atmospheric Administration

[I.D. 031400D]

Fisheries of the Caribbean, Gulf of Mexico, and South Atlantic; Generic Amendment to the Fishery Management Plans for the Gulf of Mexico to Establish the Tortugas Marine Reserve

AGENCY: National Marine Fisheries Service (NMFS), National Oceanic and Atmosphere Administration (NOAA), Commerce.

ACTION: Notice of intent to prepare a draft supplemental environmental impact statement (DSEIS); request for comments.

SUMMARY: NMFS announces the intent of the Gulf of Mexico Fishery Management Council (Council) to prepare a DSEIS for a Generic Amendment to the Fishery Management Plans for the Gulf of Mexico to Establish the Tortugas Marine Reserve (Generic Amendment). The Generic Amendment would amend all of the Council's fishery management plans (FMPs) in a manner necessary to establish a marine reserve in the exclusive economic zone (EEZ) in the vicinity of the Dry Tortugas, Florida, along with appropriate fishing restrictions. The purpose of this document is to solicit public comments on the scope of the issues to be addressed in the DSEIS.

DATES: Written comments on the scope of the DSEIS must be received on or before April 28, 2000.

ADDRESSES: Written comments on the scope of the DSEIS and requests for additional information on the Generic Amendment should be sent to Wayne Swingle, Executive Director, Gulf of Mexico Fishery Management Council, 3018 U.S. Highway 301, North, Suite 1000, Tampa, Florida 33619.

FOR FURTHER INFORMATION CONTACT: Wayne Swingle, 813-228-2815, or Michael Barnette, 727-570-5305.

SUPPLEMENTARY INFORMATION: At the Council's November 1999 meeting, representatives of the Florida Keys National Marine Sanctuary (FKNMS) requested the Council to draft fishing regulations, under authority of the Magnuson-Stevens Fishery Conservation and Management Act (Magnuson-Stevens Act), for the EEZ for a proposed ecological reserve (marine reserve) in the Tortugas region. The proposed marine reserve is approximately 70 miles west of Key West, Florida.

Currently, the Council is considering proposed measures for the Generic Amendment that would prohibit all fishing (i.e., fishing for all species managed under its FMPs as well as fishing for Atlantic highly migratory species (HMS)) and anchoring of fishing vessels in the marine reserve. The expected benefits include: (1) Protection and conservation of essential fish habitat, including critical coral reef resources, as mandated by the Magnuson-Stevens Act; (2) establishment of a refuge and biological resource replenishment area to conserve and to enhance the abundance and diversity of reef resources; (3) protection of critical spawning stock and fishing size-class recruits from overfishing, thus helping to ensure the continued abundance of fishery resources; and (4) improvement of opportunities for research on and monitoring of a coral reef ecosystem reference site. Disadvantages include displacement of fishing effort to other areas with associated crowding and possible short-term loss of revenues for commercial fishermen. The Generic Amendment would amend, as necessary, the Council's FMPs for stone crab, shrimp, corals, spiny lobster, coastal migratory pelagics, reef fish, and red drum.

The Council intends to prepare a DSEIS covering the expected environmental impacts of the Generic Amendment. The DSEIS would supplement the environmental reviews conducted previously by the Council and NMFS for each of the Council's FMPs. It is noted that the Council intends to assess, within its DSEIS, the expected environmental impacts of a management alternative prohibiting all fishing, including fishing for HMS.

Scoping Process

The FKNMS established a working group (Tortugas 2000) in 1998 consisting of representatives of various user groups that may be impacted by the establishment of a marine reserve in the Tortugas region. This working group conducted several public meetings in 1998 and 1999. Furthermore, the FKNMS held public hearings on the proposed marine reserve in 1998 and 1999 throughout Florida and in Washington, DC. Because of these previous opportunities for public input, the Council has scheduled no scoping meetings for the DSEIS for the Generic Amendment. However, the Council is requesting written comments on the scope of the issues to be addressed in the DSEIS.

Timetable for DSEIS Preparation and Decisionmaking Schedule

The Council intends to accept public comments on the completed DSEIS, prepare a final supplemental environmental impact statement (FSEIS), and submit the FSEIS to NMFS when it submits the final Generic Amendment for agency review, approval, and implementation, as provided by procedures of the Magnuson-Stevens Act. The Council intends to hold public hearings on the Draft Generic Amendment/DSEIS in June 2000; the specific times and locations for these hearings will be announced through publication of a separate Federal Register notice.

Authority: 16 U.S.C. 1801 et seq.

Dated: March 23, 2000.
Bruce C. Morehead,
Acting Director, Office of Sustainable Fisheries, National Marine Fisheries Service.

[FR Doc. 00-7707 Filed 3-28-00; 8:45 am]

BILLING CODE 3510-22-F